DEPARTMENT OF LABOR

Employment and Training Administration

[TA-W-63,254]

Teva Neuroscience, Inc., Global Clinical Professional Resources Group, Horsham, PA; Notice of Negative Determination Regarding Application for Reconsideration

By application dated May 26, 2008, a petitioner requested administrative reconsideration of the Department's negative determination regarding eligibility to apply for Trade Adjustment Assistance (TAA), applicable to workers and former workers of the subject firm. The denial notice was signed on May 9, 2008 and published in the Federal Register on May 22, 2008 (73 FR 29783).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of Teva Neuroscience, Inc., Global Clinical Professional Resources Group, Horsham, Pennsylvania, was based on the finding that the worker group does not produce an article within the meaning of Section 222 of the Trade Act of 1974.

The petitioner states that Global Clinical Professional Resource Group (GCPRG) “belonged to the Innovative Research and Development division, which had no involvement in the manufacturing process.” The petitioner also stated that GCPRG was strictly dealing with the clinical trials and with the clinical data collected from the American population. The petitioner further infers that employment at the subject firm was negatively impacted by the outsourcing of some functions from the subject facility to India.

The initial investigation revealed that the workers of Teva Neuroscience, Inc., Global Clinical Professional Resources Group, Horsham, Pennsylvania, are engaged in operations in support of the conduct of clinical trials of pharmaceutical products manufactured abroad, including database management, clinical quality control, and administration. These functions, as described above, are not considered production of an article within the meaning of Section 222 of the Trade Act of 1974.

The allegation of a shift to another country might be relevant if it was determined that workers of the subject firm produced an article. Since the investigation determined that workers of the subject firm do not produce an article, there can not be imports nor a shift in production of an “article” abroad within the meaning of the Trade Act of 1974 in this instance.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 9th day of June 2008.
Elliott S. Kushner,
Certifying Officer, Division of Trade Adjustment Assistance.

[FR Doc. E8-13406 Filed 6-13-08; 8:45 am]

BILLING CODE 4510-FN-P